DEPARTMENT OF COMMERCE

Census Bureau

Submission for OMB Review; Comment Request

DOC has submitted to the Office of Management and Budget (OMB) for clearance the following proposal for collection of information under the provisions of the Paperwork Reduction Act (44 U.S.C. chapter 35).

Agency: U.S. Census Bureau.

Title: 2007 Economic Census General Classification Report.

Form Number(s): NC-99023, NC-99023-L1, NC-99023-L11, NC-99023-L21, NC-99023-L31.

Agency Approval Number: None.

Type of Request: New collection.

Burden: 33,333 hours.

Number of Respondents: 200,000.

Avg. Hours per Response: 10 minutes.

Needs and Uses: Accurate and reliable industry and geographic codes are critical to the U.S. Census Bureau's economic statistical programs. New businesses are assigned industry classifications by the Social Security Administration (SSA). Over seven percent of these businesses cannot be assigned industry codes because insufficient information is provided on the Internal Revenue Service (IRS) Form SS-4. Since the 2002 Economic Census, the number of unclassified businesses has grown to over 110,000 (over 3% increase).

In order to provide detailed industry data for the 2007 Economic Census and the Business Register, the basic sampling frame for many of our current surveys, these unclassified businesses must be assigned North American Industry Classification System (NAICS) codes. During the 2007 Economic Census, the NC-99023 questionnaire will be used to collect information from unclassified single-unit establishments. In 2006, the year prior to the census, this form will be used to collect information from: (1) Unclassified establishments due to insufficient information provided on their SS-4 forms, and (2) partially classified establishments.

Establishments that are currently unclassified or partially classified could be misclassified in the economic census without a complete NAICS code. This refile operation will determine a complete and reliable classification in order to ensure the establishment is tabulated in the correct detailed industry for the 2007 Economic Census. Although the Bureau of Labor Statistics (BLS) provides industry codes for establishments that they have classified in their universe but which are unclassified in the Business Register, detailed industry classification would still be missing for the remaining units. If these establishments are not mailed as part of the economic census, economic data for these cases could be lost. Classification information obtained from these establishments will also be included in the Census Bureau's County Business Patterns (CBP) publications. CBP publications provide annual data on establishment counts, employment, and payroll for all sectors of the economy at national, State, and county levels.

The economic census is the primary source of facts about the structure and functioning of the Nation's economy featuring industry and geographic detail. Economic census statistics and their derivatives serve as part of the framework for the national accounts and provide essential information for government, business, and the general public. The Federal Government uses census information as an important part of the framework for the national income and product accounts, input-output tables, economic indexes, and other composite measures that serve as the factual basis for economic policy-making, planning, and program administration. Further, the census provides sampling frames and benchmarks for current surveys of business which track short-term economic trends, serve as economic indicators, and contribute critical source data for current estimates of gross domestic product. State and local governments rely on the economic census as a unique source of small geographic area economic statistics for use in policy-making, planning, and program administration. Finally, industry, business, academia, and the general public use information from the economic census for evaluating markets, preparing business plans and making business decisions; conducting economic research, including forecasting and modeling; and establishing benchmarks for their own sample surveys.

The failure to collect this information would result in less reliable source data and benchmarks reflecting today's economy for the national accounts, input-output tables, and other measures of economic activity. This would lead to a substantial degradation in the quality of these important statistics.

Affected Public: Business or other for-profit, Not-for-profit institutions.

Frequency: Every 5 years.

Respondent's Obligation: Mandatory.

Legal Authority: 13 U.S.C. 131 and 224.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer, either by fax (202-395-7245) or e-mail (susan_schechter@omb.eop.gov).

Dated: January 17, 2006.
Madeleine Clayton,
Management Analyst, Office of the Chief Information Officer.

[FR Doc. E6-675 Filed 1-20-06; 8:45 am]

BILLING CODE 3510-07-P